DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On June 7, 2019, OFAC determined that the property and interests in property subject to U.S. jurisdiction of the following persons are blocked under the relevant sanctions authorities listed below.

Entities

1. PERSIAN GULF PETROCHEMICAL INDUSTRY CO. (a.k.a. PERSIAN GULF PETROCHEMICAL INDUSTRIES; a.k.a. PERSIAN GULF PETROCHEMICAL INDUSTRIES CO. PLC; a.k.a. PERSIAN GULF PETROCHEMICAL INDUSTRY; a.k.a. PERSIAN GULF PETROCHEMICAL INDUSTRY COMPANY; a.k.a. PGPIC), No. 38, Avenue Karim Khan Zand Blvd., Hafte Tir Square, Tehran 1584893313, Iran; No. 38, Karim Khan Zand Street, Haft Tir Square, Tehran 1584851181, Iran; website www.pgpic.ir; Additional Sanctions Information—Subject to Secondary Sanctions; Business Registration Number 89243 (Iran) [NPWMD] [IFSR] (Linked To: KHATAM OL ANBIA GHARARGAH SAZANDEGI NOOH).

Designated pursuant to section 1(a)(iii) of Executive Order 13382 of June 28, 2005, “Blocking Property of Weapons of Mass Destruction Proliferators and Their Supporters” (“E.O. 13382”), for having provided, or attempted to provide, financial, material, technological or other support for, or goods or services in support of, KHATAM AL-ANBYA, a person whose property and interests in property are blocked pursuant to E.O. 13382.

2. ARVAND PETROCHEMICAL COMPANY, East 9th Floor, Building No. 46, Karimkhan Zand Boulevard, Near by Ansar Bank, Hafte-E-Tir Square, Tehran 1584893117, Iran; Site 3, Mahshahr 1584851181, Iran; website www.arvandpvc.ir; Additional Sanctions Information—Subject to Secondary Sanctions; Business Registration Number 6494 (Iran) [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

3. BANDAR IMAM ABNIROO PETROCHEMICAL COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

4. BANDAR IMAM BESPARAN PETROCHEMICAL COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

5. BANDAR IMAM FARAVARESH PETROCHEMICAL COMPANY (a.k.a. FARAVARESH BANDAR IMAM COMPANY), Bandar Imam Petrochemical Complex, Bandar Imam Khomeini, Khuzestan, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

6. BANDAR IMAM KHARAZMI PETROCHEMICAL COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

7. BANDAR IMAM KIMIYA PETROCHEMICAL COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

8. BANDAR IMAM PETROCHEMICAL COMPANY (a.k.a. BANDAR IMAM PETROCHEMICAL; a.k.a. BANDAR IMAM PETROCHEMICAL CO; a.k.a. BANDAR IMAM PETROCHEMICAL COMPANY LTD; a.k.a. “BIPC”), North Kargar Street, Tehran, Iran; Mahshahr, Bandar Imam, Khuzestan Province, Iran; Imam Khumaini Port, Mahshahr, Khuzestan, Iran; P.O. Box 314, Iran; Additional Sanctions Information—Subject to Secondary Sanctions; National ID No. 6301 (Iran) [IRAN] [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

9. BU ALI SINA PETROCHEMICAL COMPANY (a.k.a. BOU ALI SINA PETROCHEMICAL COMPANY; a.k.a. BUALI SINA PETROCHEMICAL COMPANY), No. 17, 1st Floor, Daman Afshar St., Vanak Sq., Vali-e-Asr Ave, Tehran 19697, Iran; Petrochemical Special Economic Zone (PETZONE), Iran; Additional Sanctions Information—Subject to Secondary Sanctions [IRAN] [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

10. FAJR PETROCHEMICAL COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

11. HENGAM PETROCHEMICAL COMPANY (a.k.a. HENGAM PETROCHEMICAL CO), 4th Floor, No 22, 16th Avenue, Khlid Islomboli Street, Tehran 1513643911, Iran; 5th Street, Ahmed Ghasir Street, Khaled Eslamboli Avenue 22, Tehran, Iran; Additional Sanctions Information—Subject to Secondary Sanctions; Registration Number 1924 (Iran) [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

12. HORMOZ UREA FERTILIZER COMPANY, Iran; website www.hormoz-fc.com; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

13. IRANIAN INVESTMENT PETROCHEMICAL GROUP COMPANY (a.k.a. IRANIAN PETROCHEMICAL INVESTMENT GROUP COMPANY), Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

14. GACHSARAN POLYMER INDUSTRIES, (a.k.a. GACHSARAN PETROCHEMICAL COMPANY), Shahid Vahid Dastgerdi Street, Naseri St., Kian St. 11th Floor Unit 3, Tehran, Iran; website http://www.gpetroc.ir; Additional Sanctions Information—Subject to Secondary Sanctions [NPWMD] (Linked To: IRANIAN INVESTMENT PETROCHEMICAL GROUP COMPANY).

Designated pursuant to section 1(a)(iv) of E.O. 13382, for being owned or controlled by the IRANIAN INVESTMENT PETROCHEMICAL GROUP COMPANY, a person whose property and interests in property are blocked pursuant to E.O. 13382.

15. DAH DASHT PETROCHEMICAL INDUSTRIES (a.k.a. DAHDASHT PETROCHEMICAL INDUSTRIES; a.k.a. DEHDASHT PETROCHEMICAL INDUSTRIES CO.), Afrigha Boulevard, Below the JahanKodak, No. 9th Street, Petrochemical Trading Building, 7/5000 5th floor, Unit 21, Tehran, Iran; website www.dpi-co.ir; Additional Sanctions Information—Subject to Secondary Sanctions [NPWMD] (Linked To: IRANIAN INVESTMENT PETROCHEMICAL GROUP COMPANY).

Designated pursuant to section 1(a)(iv) of E.O. 13382, for being owned or controlled by the IRANIAN INVESTMENT PETROCHEMICAL GROUP COMPANY, a person whose property and interests in property are blocked pursuant to E.O. 13382.

16. BROOJEN PETROCHEMICAL COMPANY (a.k.a. BROUJEN PETROCHEMICAL COMPANY), About 8 km southwest of Borujen City, Iran; Additional Sanctions Information—Subject to Secondary Sanctions [NPWMD] (Linked To: IRANIAN INVESTMENT PETROCHEMICAL GROUP COMPANY; Linked To: DAH DASHT PETROCHEMICAL INDUSTRIES; Linked To: MODABBERAN EQTESAD COMPANY).

Identified as an entity in which IRANIAN INVESTMENT PETROCHEMICAL GROUP COMPANY, DAH DASHT PETROCHEMICAL INDUSTRIES and MODABBERAN EQTESAD COMPANY, persons whose property and interests in property are blocked pursuant to an Executive order or regulations administered by OFAC, directly or indirectly own, whether individually or in the aggregate, a 50 percent or greater interest, as set forth in OFAC's “Revised Guidance on Entities Owned by Persons Whose Property and Interests in Property are Blocked” dated August 13, 2014, available on OFAC's website at www.treasury.gov/ofac.

17. ILAM PETROCHEMICAL COMPANY (a.k.a. ILAM PETROCHEMICAL; a.k.a. ILAM PETROCHEMICAL CO; a.k.a. ILAM PETROCHEMICAL INDUSTRIES), Afar Blvd.—Below Shahid Hemmat Bridge—Ninth Gandhi Side—Building No. 2 Petrochemical Company—First Floor, Tehran, Iran; Ilam—Chawar—Ilam Petrochemical Complex, Iran; website www.ilampetro.com; Additional Sanctions Information—Subject to Secondary Sanctions; Registration Number 253861 (Iran) [NPWMD] (Linked To: IRANIAN INVESTMENT PETROCHEMICAL GROUP COMPANY).

Designated pursuant to section 1(a)(iv) of E.O. 13382, for being owned or controlled by the IRANIAN INVESTMENT PETROCHEMICAL GROUP COMPANY, a person whose property and interests in property are blocked pursuant to E.O. 13382.

18. ATLAS OCEAN AND PETROCHEMICAL (AOPC), Dubai Airport Free Zone, United Arab Emirates [NPWMD] (Linked To: ILAM PETROCHEMICAL COMPANY).

Designated pursuant to section 1(a)(iii) of E.O. 13382, for having provided, or attempted to provide, financial, material, technological or other support for, or goods or services in support of ILAM PETROCHEMICAL COMPANY, a person whose property and interests in property are blocked pursuant to E.O. 13382.

19. IRANIAN PETROCHEMICAL INVESTMENT DEVELOPMENT MANAGEMENT COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

20. KAROUN PETROCHEMICAL COMPANY (a.k.a. KAROON PETROCHEMICAL; a.k.a. KAROON PETROCHEMICAL CO; a.k.a. KRNPC), No 17, Shahid Khalilzadeh Ally, Vanak Square, Valiasr Street, Tehran 1965754351, Iran; Block 6, Petrochemical Zone Site 2, Special Economic Zone, Imam Khomeini Port, Mahshahr, Tehran 1965754351, Iran; Site 2, Central Office Address, Special Industrial Zone, Mahshahr, Khuzestan, Iran; Site 2, Karoon Petrochemical Complex 6358159385, Iran; P.O. Box 1969754351, Tehran, Iran; website www.krnpc.com; Additional Sanctions Information—Subject to Secondary Sanctions; Registration Number 9645 (Iran) [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

21. KHOUZESTAN PETROCHEMICAL COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

22. LORDEGAN UREA FERTILIZER COMPANY (a.k.a. KODE SHIMIYAIE OREH LORDEGAN; a.k.a. LORDEGAN PETROCHEMICAL CO.; a.k.a. LORDEGAN UREA FERTILIZER CO.), No. 48, Saadat Abad, Farahzadi Boulevard, Nakhlestan Street, Golestan Alley-I, Tehran 1517769513, Iran; 3rd Floor, No. 24, Kafi Abadi Street, Pesyan Street, Moghadas Ardebili Avenue, Zaferanieh, Tehran 1987957553, Iran; Beginning of Kashan Boulevard, Second Floor, No. 2, Shahrekord, Iran; P.O. Box 1517769513, Tehran, Iran; website www.lordegan.co; Additional Sanctions Information—Subject to Secondary Sanctions; Registration ID 7603 (Iran) [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

23. MOBIN PETROCHEMICAL COMPANY (a.k.a. MOBIN PETROCHEMICAL; a.k.a. “MPC”), Southern Pars Special Economic Energy Zone, Assaluyeh, Bushehr, Iran; No. 50, DamanAfshar Alley, Vanak Square, ValiAsr Street, Tehran 19697-53111, Iran; P.O. Box 75391-418, Bushehr 1969753111, Iran; PO Box, Mashhad, Iran; website www.mobinpc.net; Additional Sanctions Information—Subject to Secondary Sanctions; Registration ID 837 (Iran) [IRAN] [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

24. MODABBERAN EQTESAD COMPANY (a.k.a. MODABERAN EGHTESAD), Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

25. NPC INTERNATIONAL (a.k.a. N P C INTERNATIONAL LTD; a.k.a. NPC INTERNATIONAL COMPANY; a.k.a. NPC INTERNATIONAL LIMITED), 5th Floor NIOC House, 4, Victoria Street, London SW1H 0NE, United Kingdom; NIOC House, 4 Victoria Street, London SW1H 0NE, United Kingdom; 4 Victoria Street, London SW1 H0NB, United Kingdom; website www.nipc.net; Additional Sanctions Information—Subject to Secondary Sanctions; Registration Number 02696754 (United Kingdom); all offices worldwide [IRAN] [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

26. NPC ALLIANCE CORPORATION (a.k.a. NPC ALLIANCE PETROCHEMICAL CO), 44th Floor Pbcom Tower Ayala Avenue, Makati 1226, Philippines; 19th Floor Antel 2000 Corporate Center, 121 Valero St, Salcedo Village, Makati City 1226, Philippines; PAFC Industrial Park, Barangay Batangas II, Mariveles, Bataan 2105, Philippines; website www.pnoc-afc.com.ph; alt. Website www.npcac.com.ph; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

27. NOURI PETROCHEMICAL COMPANY (f.k.a. BORZOUYEH PETROCHEMICAL COMPANY; a.k.a. BORZUYEH PETROCHEMICAL COMPANY; a.k.a. NOURI PETROCHEMICAL; a.k.a. NOURI PETROCHEMICAL CO; a.k.a. NOURI PETROCHEMICAL COMPANY (LLP); a.k.a. NOURI PETROCHEMICAL COMPLEX), Pars Special Economic Energy Zone, Assaluyeh Port, Bushehr, Iran; Nouri (Borzouyeh) Petrochemical Company, Pars Special Economy Zone, Assalouyeh, Bushehr, Iran; P.O.Box 75391-115, Bushehr, Iran; Pars Special Economy Energy Zone, Assalouyeh Port in the North Side of Persian Gulf, Bushehr, Iran; website www.bpciran.com; Additional Sanctions Information—Subject to Secondary Sanctions; National ID No. 941 (Iran) [IRAN] [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

28. PARS PETROCHEMICAL COMPANY (a.k.a. ASALOUYEH PETROCHEMICAL COMPANY; a.k.a. PARS PETROCHEMICAL CO.; a.k.a. “P.P.C.”), Pars Special Economic Energy Zone, PO Box 163-75391, Assaluyeh, Bushehr, Iran; P.O. Box 163-75391 11370-75118, Iran; Pars Economic Special Zone, Asalouyeh, Bushehr, Iran; website www.parspc.net; Additional Sanctions Information—Subject to Secondary Sanctions [IRAN] [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

29. PAZARGAD NON INDUSTRIAL OPERATION COMPANY (a.k.a. NON-INDUSTRIAL OPERATION SERVICES PAZARGAD; a.k.a. PAZARGAD NON-INDUSTRIAL OPERATIONS CO.), Complex of Petrochemical Projects, Triangular Site, P.O. Box 9531795616, Assaluyeh, Bushehr, Iran; Khalid Islumboli Street, Fifth Alley, No. 22, Second Floor, Tehran 1513643911, Iran; website www.pazargad.org; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

30. PERSIAN GULF APADANA PETROCHEMICAL COMPANY (a.k.a. APADANA PERSIAN GULF PETROCHEMICAL COMPANY), Unit 14, 3rd Floor, No. 22, 5th Alley, Vozara St (Khalede Eslamboli), District 6, Tehran, Iran; website http://pgapco.ir; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

31. PERSIAN GULF BID BOLAND GAS REFINERY COMPANY (a.k.a. PERSIAN GULF BIDBOLAND GAS TREATING COMPANY), Unit 501, Fifth Floor, Block 8, Shahid Beheshti Street, Ahmad Qasir, Bukharest Avenue 1513645311, Iran; website www.pgbidboland.ir; Additional Sanctions Information—Subject to Secondary Sanctions; Registration Number 389019 (Iran) [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

32. PERSIAN GULF PETROCHEMICAL INDUSTRY COMMERCIAL CO. (a.k.a. PERSIAN GULF PETROCHEMICAL INDUSTRIES COMMERCIAL COMPANY; a.k.a. PERSIAN GULF PETROCHEMICAL INDUSTRY COMMERCIAL; a.k.a. PERSIAN GULF PETROCHEMICAL INDUSTRY-COMMERCIAL COMPANY; a.k.a. PGPICC), No. 38, Karimkhan Zand Boulevard, Haft Tir Square, Tehran 158489331, Iran; P.O. Box 1584851181, Tehran, Iran; website www.pgpicc.com; Additional Sanctions Information—Subject to Secondary Sanctions; Registration Number 476760 (Iran) [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

33. PERSIAN GULF FAJR YADAVARAN GAS REFINERY COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

34. PETROCHEMICAL INDUSTRIES DEVELOPMENT MANAGEMENT COMPANY (a.k.a. PETROCHEMICAL INDUSTRIES DEVELOPMENT MANAGEMENT; a.k.a. PIDMCO), Karim Khan Zand Street, Haft Tir Square, Tehran, Iran; website www.pidmco.ir; Additional Sanctions Information—Subject to Secondary Sanctions; Registration ID 89247 (Iran) [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

35. RAHAVARAN FONOON PETROCHEMICAL COMPANY (a.k.a. “RFPC”), Site 3, Economic Special Zone, Bandar-e Emam Khomeyni, Bandar Mahshar, Khuzestan Province 6356178755, Iran; Floor 7, Bldg No. 46, First of Karim Khan Zand St., & Tir Square, Tehran, Iran; Petrochemical Complex, Pars Special Economic Zone, Assaluye, Bushehr Province, Iran; website www.rfpc.ir; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

36. SHAHID TONDGOYAN PETROCHEMICAL COMPANY (a.k.a. SHAHID TANDGOOYAN PETROCHEMICAL CO.; a.k.a. SHAHID TONDGOOYAN PETROCHEMICAL CO.; a.k.a. SHAHID TONDGUYAN PETROCHEMICAL COMPANY; a.k.a. “STPC”), Petrochemical Special Economic Zone (PETZONE), Iran; Valiasr Street, Above Vanak Square, Shahid Daman Afshar, Plain No. 50, Tehran 1969753111, Iran; Khuzestan Imam Khomeini Port Special Economic Zone, 4th Shahid Tondgoyan Petrochemical Company 6356174196, Iran; P.O. Box 333, Iran; website www.stpc.ir; Additional Sanctions Information—Subject to Secondary Sanctions [IRAN] [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

37. URMIA PETROCHEMICAL COMPANY (a.k.a. “UPC”), Iran; website www.urpcc.ir; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

38. HEMMAT PETROCHEMICAL COMPANY, Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

39. NAGHMEH FZE (a.k.a. NAGHMEH COMPANY), United Arab Emirates [NPWMD] (Linked To: PERSIAN GULF PETROCHEMICAL INDUSTRY COMMERCIAL CO.).

Designated pursuant to section 1(a)(iv) of E.O. 13382, for acting for or on behalf of PERSIAN GULF PETROCHEMICAL INDUSTRY COMMERCIAL CO., a person whose property and interests in property are blocked pursuant to E.O. 13382.

40. PETROCHEMICAL NON-INDUSTRIAL OPERATIONS & SERVICES CO. (a.k.a. PETROCHEMICAL NON-INDUSTRIAL OPERATIONS AND SERVICES CO.), Iran; Additional Sanctions Information—Subject to Secondary Sanctions [NPWMD] [IFSR] (Linked To: PERSIAN GULF PETROCHEMICAL INDUSTRY CO.).

Designated pursuant to section 1(a)(iv) of E.O. 13382, for being owned or controlled by the PERSIAN GULF PETROCHEMICAL INDUSTRY CO., a person whose property and interests in property are blocked pursuant to E.O. 13382.

Dated: June 7, 2019.
Andrea M. Gacki,
Director, Office of Foreign Assets Control, U.S. Department of the Treasury.

[FR Doc. 2019-12380 Filed 6-11-19; 8:45 am]

BILLING CODE 4810-AL-P